DEPARTMENT OF HEALTH AND HUMAN SERVICES

Centers for Medicare & Medicaid Services

[CMS-1270-RCN]

RIN 0938-AN14

Medicare Program; Competitive Acquisition for Certain Durable Medical Equipment, Prosthetics, Orthotics, and Supplies; Extension of Timeline for Publication of Final Rule

AGENCY: Centers for Medicare & Medicaid Services (CMS), HHS.

ACTION: Extension of timeline for publication of final rule.

SUMMARY: This notice announces an extension of the timeline for publication of a Medicare final rule in accordance with section 1871(a)(3)(B) of the Social Security Act, which allows us to extend the timeline for publication of the final rule.

EFFECTIVE DATE: This notice is effective on March 30, 2007.

FURTHER INFORMATION CONTACT: Ralph Goldberg, (410) 786-4870.

SUPPLEMENTARY INFORMATION: In the May 1, 2006 Federal Register (71 FR 25654), we published a proposed rule that would have implemented competitive bidding programs for certain covered items of durable medical equipment, prosthetics, orthotics, and supplies (DMEPOS) throughout the United States in accordance with sections 1847(a) and (b) of the Social Security Act (the Act). These programs would change the way that Medicare pays for these items under Part B of the Medicare program by utilizing bids submitted by DMEPOS suppliers to establish applicable payment amounts.

Section 1871(a)(3)(A) of the Act requires us to establish and publish a regular timeline for the publication of final regulations based on the previous publication of a proposed regulation. In accordance with section 1871(a)(3)(B) of the Act, the timeline may vary among different regulations based on differences in the complexity of the regulation, the number and scope of comments received, and other relevant factors, but may not be longer than 3 years except under exceptional circumstances. In addition, in accordance with section 1871(a)(3)(B) of the Act, the Secretary may extend the initial targeted publication date of the final regulation, if the Secretary, no later than the regulation's previously established proposed publication date, causes to have published a notice with the new target date, and such notice includes a brief explanation of the justification for the variation.

We announced in the December 2006 Unified Agenda (December 11, 2006, 71 FR 72734) that we would issue the final rule in March 2007. However, we are not able to meet the announced publication target date due to the number of extensive comments received on the proposed rule and interagency coordination. We received over 2,000 timely comments on the proposed rule. The commenters presented extremely complex policy and legal issues, which require extensive consultation and analysis.

This final rule also is extremely complex because it will establish an entirely new program that will affect the DMEPOS industry as well as Medicare beneficiaries who use DMEPOS. This final rule will establish a new concept for Medicare payment for DMEPOS, which necessitates the development of new regulations and a competitive bidding process in addition to extensive payment system changes.

This notice extends the timeline for publication of the final rule until April 30, 2007.

Authority: Section 1871 of the Social Security Act (42 U.S.C. 201395hh).

(Catalog of Federal Domestic Assistance Program No. 093.774, Medicare—Supplementary Medical Insurance Program)

Dated: March 30, 2007.
Ann Agnew,
Executive Secretary to the Department.

[FR Doc. 07-1658 Filed 3-30-07; 4:01 pm]

BILLING CODE 4120-01-P